FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A Copy of the agreement is available through the Commission's Web site (www.fmc.gov) or by contacting the Office of Agreements at (202)523-5793 or tradeanalysis@fmc.gov.

Agreement No.: 012245.

Title: Eastern Car Liner Ltd./Rickmers-Linie GmbH & Cie. KG Space Charter Agreement.

Parties: Eastern Car Liner Ltd. and Rickmers-Linie GmbH & Cie. KG

Filing Party: Wayne R. Rohde, Esq.; Cozen O'Connor; 1627 I Street NW., Suite 1100; Washington, DC 20006.

Synopsis: The agreement authorizes the parties to charter space to and from one another in the trade between ports in Japan on the one hand, and ports in the U.S. on the other hand.

By Order of the Federal Maritime Commission.
Dated: February 7, 2014.
Rachel E. Dickon,
Assistant Secretary.

[FR Doc. 2014-03085 Filed 2-12-14; 8:45 am]

BILLING CODE 6730-01-P